NATIONAL FOUNDATION OF THE ARTS AND THE HUMANITIES

Institute of Museum and Library Services

50th Meeting of the National Museum and Library Services Board

AGENCY: Institute of Museum and Library Services (IMLS), National Foundation of the Arts and the Humanities (NFAH).

ACTION: Notice of meeting.

SUMMARY: Pursuant to the Federal Advisory Committee Act, notice is hereby given that the National Museum and Library Services Board will meet to advise the Institute of Museum and Library Services (IMLS) with respect to duties, powers, and authority of IMLS relating to museum, library, and information services, as well as coordination of activities for the improvement of these services.

DATES: The meeting will be held on December 10th, 2024, from 9 a.m. until 5 p.m. or adjourned.

ADDRESSES: The meeting will convene in a hybrid format. Virtual meeting and audio conference technology will be used to connect virtual attendees with in-person attendees. Instructions for joining will be sent to all registrants. In-person attendees will meet at the Kellogg Conference Hotel Capitol Hill at Gallaudet University, 800 Florida Ave. NE, Washington, DC 20002-3695.

FOR FURTHER INFORMATION CONTACT: Katherine Maas, Chief of Staff and Alternate Designated Federal Officer, Institute of Museum and Library Services, Suite 4000, 955 L'Enfant Plaza North SW, Washington, DC 20024; (202) 653-4798; kmaas@imls.gov.

SUPPLEMENTARY INFORMATION: The National Museum and Library Services Board is meeting pursuant to the National Museum and Library Service Act, 20 U.S.C. 9105a, and the Federal Advisory Committee Act (FACA), as amended, 5 U.S.C. App.

The 50th Meeting of the National Museum and Library Services Board, which is open to the public, will convene at 9 a.m. Eastern Time on December 10, 2024.

The agenda for the 50th Meeting of the National Museum and Library Services Board will be as follows:

I. Call to Order

II. Approval of Minutes of the 49th Meeting

III. Welcome and Update

IV. Guest Presentation

V. Medals Process Discussion

VI. PCAH Update

VII. Grantmaking Overview

VIII. Reauthorization Discussion and Working Session

If you wish to attend the meeting, please inform IMLS as soon as possible, but no later than close of business on December 6th, 2024, by contacting the IMLS Office of the Director at directorsoffice@imls.gov. Please indicate whether you would like to attend virtually or in person. Please provide notice of any special needs or accommodations by December 1st, 2024.

Dated: November 8, 2024.
Brianna Ingram,
Paralegal Specialist.

[FR Doc. 2024-26520 Filed 11-13-24; 8:45 am]

BILLING CODE 7036-01-P